DEPARTMENT OF COMMERCE

National Oceanic and Atmospheric Administration

RIN 0648-XE83

Incidental Take of Marine Mammals; Taking of Marine Mammals Incidental to Missile Launch Operations from San Nicolas Island, CA

AGENCY: National Marine Fisheries Service (NMFS), National Oceanic and Atmospheric Administration (NOAA), Commerce.

ACTION: Notice of issuance of a letter of authorization.

SUMMARY: In accordance with the Marine Mammal Protection Act (MMPA), as amended, notification is hereby given that a letter of authorization (LOA) to take three species of marine mammals incidental to missile launch operations from San Nicolas Island, CA (SNI) has been issued to the Naval Air Warfare Center Weapons Division (NAWC-WD), Point Mugu, CA.

DATES: This authorization is effective from February 3, 2008, through October 2, 2008.

ADDRESSES: The application, LOA, and Navy monitoring report are available for review in the Office of Protected Resources, NMFS, 1315 East-West Highway, Silver Spring, MD 20910 or by contacting one of the individuals mentioned below (See FOR FURTHER INFORMATION CONTACT).

FOR FURTHER INFORMATION CONTACT: Howard Goldstein or Ken Hollingshead, NMFS, (301) 713-2289 ext. 172.

SUPPLEMENTARY INFORMATION: Section 101(a)(5)(A) of the MMPA (16 U.S.C. 1361 et seq.) directs NMFS to allow, on request, the incidental, but not intentional, taking of marine mammals by U.S. citizens who engage in a specified activity (other than commercial fishing), if certain findings are made by NMFS and regulations are issued. Under the MMPA, the term “taking” means to harass, hunt, capture, or kill or to attempt to harass, hunt, capture or kill marine mammals.

Authorization may be granted for periods up to five years if NMFS finds, after notification and opportunity for public comment, that the taking will have a negligible impact on the species or stock(s) of marine mammals and will not have an unmitigable adverse impact on the availability of the species or stock(s) for certain subsistence uses. In addition, NMFS must prescribe regulations that include permissible methods of taking and other means of effecting the least practicable adverse impact on the species and its habitat and on the availability of the species for subsistence uses, paying particular attention to rookeries, mating grounds, and areas of similar significance. The regulations also must include requirements pertaining to the monitoring and reporting of such taking. Regulations governing the taking incidental to target missile operations on San Nicolas Island, CA, were published on September 2, 2003 (68 FR 52132), and remain in effect until October 2, 2008.

Pursuant to these regulations, NMFS has issued an LOA to the NAWC-WD. Issuance of the LOA is based on a finding made in the preamble to the final rule that the total takings by this project (with the mitigation) will have no more than a negligible impact on the affected species or stocks of marine mammals and will not have an unmitigable adverse impact on the availability of such species or stock for taking for relevant subsistence uses. NMFS also finds that the applicant will meet the requirements contained in the implementing regulations and LOA, including monitoring and reporting requirements.

According to the draft technical report, the NAWC-WD performed a total of three missile launches between February and November 2007. A dual launch of Rolling Airframe Missiles(RAM) occurred on 26 April, 2007; and single GQM-163A Supersonic Sea-Skimming Target (SSST) were launched on June 12 and 13, 2007. California sea lions were observed during all three launches on all three launch dates. Northern elephant seals were observed during all three launches on the three dates. Pacific harbor seals were not observed during launches on any launch dates. Based on monitoring efforts between February and November 2007, the NAWC-WD estimates that approximately 567 sea lions, 40 harbor seals, and no elephant seals were affected by launch sounds. There was no evidence of injury or mortality during or immediately succeeding the launches for any pinniped species. NMFS finds that the level of taking under the 2008 LOA will be consistent with the findings made in the final rule for this action.

Dated: February 1, 2008.
P. Michael Payne,
Chief, Permits, Conservation and Education Division, Office of Protected Resources, National Marine Fisheries Service.

[FR Doc. E8-2282 Filed 2-6-08; 8:45 am]

BILLING CODE 3510-22-S